DEPARTMENT OF DEFENSE

Department of the Army, Corps of Engineers

33 CFR Part 220

[COE-2020-0009]

RIN 0710-AA85

Design Criteria for Dam and Lake Projects

AGENCY: U.S. Army Corps of Engineers, Department of Defense.

ACTION: Final rule.

SUMMARY: This final rule removes the U.S. Army Corps of Engineers' part titled Design Criteria for Dam and Lake Projects. This part is out-of-date and otherwise covers internal agency operations that have no public compliance component or adverse public impact. Therefore, this part can be removed from the Code of Federal Regulations (CFR).

DATES: This rule is effective on January 8, 2021.

ADDRESSES: Department of the Army, U.S. Army Corps of Engineers, ATTN: CECW-EC (Mr. Robert Bank), 441 G Street NW, Washington, DC 20314-1000.

FOR FURTHER INFORMATION CONTACT: Mr. Robert Bank at (202) 761-5532 or by email at Robert.Bank@usace.army.mil.

SUPPLEMENTARY INFORMATION:

This final rule removes from the 33 CFR part 220, Design Criteria for Dam and Lake Projects providing policy, design, and report requirements for low level discharge facilities for drawdown of lakes to be impounded by Corps Civil Works projects. The rule was initially published in the Federal Register on May 8, 1975 (40 FR 20081), and amended on August 22, 1975 (40 FR 36774). While the rule applies only to Corps design criteria on Corps dam and lake projects, it was published, at that time, in the Federal Register to aid public accessibility.

The solicitation of public comment for this removal is unnecessary because the rule is out-of-date, duplicative of existing internal agency guidance, and otherwise covers internal agency operations that have no public compliance component or adverse public impact. For current public accessibility purposes, updated internal agency policy on this topic may be found in Engineer Manual 1110-2-1602, “Hydraulic Design of Reservoir Outlet Works” (available at https://www.publications.usace.army.mil/Portals/76/Publications/EngineerManuals/EM_1110-2-1602.pdf). The agency policy is only applicable to field operating activities having responsibility for the design of Corps Civil Works projects and provides guidance specific to the Corps' hydraulic design analysis of reservoir outlet works facilities.

This rule removal is being conducted to reduce confusion for the public as well as for the Corps regarding the current policy which governs the Corps' design criteria for Corps dam and lake projects. Because the regulation does not place a burden on the public, its removal does not provide a reduction in public burden or costs.

This rule is not significant under Executive Order (E.O.) 12866, “Regulatory Planning and Review.” Therefore, the requirements of E.O. 13771, “Reducing Regulation and Controlling Regulatory Costs,” do not apply. This removal supports a recommendation of the DoD Regulatory Reform Task Force.

List of Subjects in 33 CFR Part 220

Dams, Flood control.

PART 220—[REMOVED]

Accordingly, for the reasons stated in the preamble and under the authority of 5 U.S.C. 301, the Corps removes 33 CFR part 220.

R.D. James,
Assistant Secretary of the Army (Civil Works).

[FR Doc. 2020-27908 Filed 1-7-21; 8:45 am]

BILLING CODE 3720-58-P